POSTAL SERVICE

39 CFR Part 113

Hazardous, Restricted, and Perishable Mail (Publication 52); Incorporation by Reference

AGENCY: Postal Service™.

ACTION: Final rule.

SUMMARY: The Postal Service announces the issuance of Hazardous, Restricted, and Perishable Mail (Publication 52) dated August 2017, and its incorporation by reference in the Code of Federal Regulations.

DATES: This final rule is effective on January 10, 2018. The incorporation by reference of certain publications listed in the rule is approved by the Director of the Federal Register as of January 10, 2018.

FOR FURTHER INFORMATION CONTACT: Lizbeth Dobbins (202) 268-3789.

SUPPLEMENTARY INFORMATION: The most recent issue of Hazardous, Restricted, and Perishable Mail (Publication 52) is dated August 2017. This issue of Publication 52 contains Postal Service mailing standards relating to the shipment of hazardous, restricted, and perishable materials. Publication 52 provides a complete and comprehensive source for users to find information necessary to properly prepare mailings of hazardous, restricted, and perishable materials, and limits the need for users to consult other information sources when preparing such mailings.

Publication 52 is available, in a read-only format, to the mailing industry and general public via the Postal Explorer® website at http://pe.usps.com. The Postal Explorer application can be accessed directly at any time. In addition, links to Postal Explorer are provided on:

• The landing page of USPS.com, the Postal Service's primary customer-facing website; and

• The USPS application Postal Pro, an online informational source available to both mailing industry members and Postal customers, intended to eventually replace RIBBS.

New editions of Publication 52 will be published at regular intervals, generally no less frequently than once each calendar year. Changes to mailing standards applicable to hazardous, restricted, and perishable materials will be made as necessary, and incorporated into each successive edition of Publication 52. The incorporation by reference of each edition of Publication 52 will be announced through publication in the Federal Register. Details of the revisions to Publication 52 will be published in the Postal Bulletin, available at https://about.usps.com/postal-bulletin/welcome.htm.

Prior to July, 2014, the Postal Service maintained standards for the mailing of hazardous, restricted, and perishable mail in both the Mailing Standards of the United States Postal Service, Domestic Mail Manual (DMM) and Publication 52. On July 28, 2014, as part of a continuing initiative to reduce the size of the DMM, the Postal Service removed from that publication the detailed mailing standards relating to hazardous, restricted, and perishable materials. In place of these detailed provisions, revised DMM 601.8.0 advised that mailing standards specific to hazardous, restricted, and perishable mail would be incorporated into Publication 52, and could be found on the Postal Explorer website at pe.usps.com.

Based on its experience applying the mailing standards for hazardous, restricted and perishable mail since July 28, 2014, the Postal Service believes that these mailing standards were more visible to the mailing community when they were included in the DMM, which is incorporated by reference in the Code of Federal Regulations, and thus more effective in supporting USPS efforts related to compliance and enforcement. The Postal Service expects that incorporation by reference of Publication 52 in the Code of Federal Regulations, will increase the visibility of the mailing standards contained in Publication 52 and thereby maximize their effectiveness and usefulness.

Since their removal from the DMM, the mailing standards provided in Publication 52 have undergone few changes of significance; indeed, several of those changes have expanded the options available to HAZMAT mailers. With regard to changes having a wider impact on mailers, such as those required to conform Publication 52 to the revised standards for the shipment of lithium batteries established by the Pipeline and Hazardous Materials Safety Administration (PHMSA) and the International Civil Aviation Organization (ICAO), the Postal Service has been careful to provide advance notice to interested parties, with an opportunity to comment, and to shape the final standards in response to the comments received. See, e.g. 82 FR 11372 (February 22, 2017), and 82 FR 34712 (July 26, 2017). Relating to violations of mailing standards for hazardous materials, the Postal Service currently has civil enforcement authority granted by the Postal Accountability and Enhancement Act of 2006, and authority to assess criminal penalties under 18 U.S.C. 1716. As a result, the Postal Service believes that the incorporation by reference of Publication 52 should have little or no impact on mailers of hazardous, restricted, or perishable materials, and the Postal Service would expect few comments in response to a proposed rule. Accordingly, the Postal Service has chosen to publish only a final rule in support of this action.

The Postal Service further believes that incorporation by reference of Publication 52 is justified in view of the unique qualities of the publication, including its length, the detailed description of conditions relating to the mailing of hazardous, restricted, or perishable materials, and the presence of numerous color figures and images in the document. In addition, the potential for serious injury to Postal Service employees and the general public, as well as the potential for damage to USPS equipment and other assets resulting from improperly prepared, packaged, or marked hazardous materials, provide support for the incorporation by reference of a separate publication dealing specifically with such matters.

List of Subjects in 39 CFR Part 113

Hazardous, restricted, and perishable mail, Incorporation by reference.

In consideration of the matters discussed above, the Postal Service adds new 39 CFR part 113 as follows:

PART 113—HAZARDOUS, RESTRICTED, AND PERISHABLE MAIL

Sec.
113.1 Scope and purpose.
113.2 Incorporation by reference.

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

§ 113.1 Scope and purpose.

This part applies to the mailing and shipment of hazardous, restricted, and perishable materials. In order to mail hazardous, restricted, and perishable materials, mailers must properly prepare their mailings in accordance with the standards contained in USPS Publication 52 (incorporated by reference, see § 113.2).

§ 113.2 Incorporation by reference.

(a) Certain material is incorporated by reference into this part with the approval of the Director of the Federal Register under 5 U.S.C. 552(a) and 1 CFR part 51. All approved material is available for inspection by appointment only, during normal hours of operation, at the U.S. Postal Service Library, 475 L'Enfant Plaza West SW, Washington, DC 20260-1641 (call 202-268-2906), and is available from the sources listed below. It is also available for inspection at the National Archives and Records Administration (NARA). For information on the availability of this material at NARA, call 202-741-6030 or go to www.archives.gov/federal-register/cfr/ibr-locations.html.

(b) United States Postal Service, Product Classification Office, USPS Headquarters, 475 L'Enfant Plaza SW, Room 4446, Washington, DC 20260-5013: http://pe.usps.com/text/pub52/welcome.htm.

(1) Publication 52, Hazardous, Restricted and Perishable Mail, dated August 2017, IBR approved for § 113.1.

(2) [Reserved]

Stanley F. Mires,
Attorney, Federal Compliance.

[FR Doc. 2018-00266 Filed 1-9-18; 8:45 am]

BILLING CODE 7710-12-P